DEPARTMENT OF THE TREASURY

Office of Foreign Assets Control

Additional Designation of Persons Pursuant to Executive Order 12978

AGENCY: Office of Foreign Assets Control, Treasury.

ACTION: Notice.

SUMMARY: The Treasury Department's Office of Foreign Assets Control (“OFAC”) is publishing the names of twenty-seven newly-designated persons whose property and interests in property are blocked pursuant to Executive Order 12978 of October 21, 1995, “Blocking Assets and Prohibiting Transactions with Significant Narcotics Traffickers.” In addition, OFAC is publishing changes to the identifying information associated with eighteen persons previously designated pursuant to Executive Order 12978.

DATES: The designation of the twenty-seven persons identified in this notice pursuant to Executive Order 12978 is effective on November 28, 2006. In addition, the changes to the listings of the eighteen persons previously designated pursuant to Executive Order 12978 are also effective on November 28, 2006.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On November 28, 2006, OFAC, in consultation with the Departments of Justice, State, and Homeland Security, designated twenty-seven persons whose property and interests in property are blocked pursuant to the Order.

The list of additional designees is as follows:

1. ASESORES CONSULTORES ASOCIADOS LTDA. (a.k.a. ACA LTDA.), Carrera 100 No. 11-90 Ofc. 403, Cali, Colombia; NIT #805007818-1 (Colombia) [SDNT]

2. BRUNELLO LTD., Grand Cayman, Cayman Islands; Nine Island Avenue, Unit 1411, Miami Beach, FL; C.R. No. 68557 (Cayman Islands) [SDNT]

3. CALI @ TELE.COM LTDA. (a.k.a. HOLA TELECOMUNICACIONES), Calle 13 No. 80-60 Loc. 224, Cali, Colombia; NIT # 805021515-1 (Colombia) [SDNT]

4. CITICAR LTDA., Calle 15 No. 10-52, La Union, Valle, Colombia; NIT # 800026660-6 (Colombia) [SDNT]

5. COMUNICACIONES ABIERTAS CAMARY LTDA., Calle 13 No. 80-60 Loc. 224, Cali, Colombia; NIT # 805028107-1 (Colombia) [SDNT]

6. CONFECCIONES LINA MARIA LTDA., Factoria La Rivera, La Union, Valle, Colombia; NIT # 800026667-7 (Colombia) [SDNT]

7. CONSTRUCCIONES E INVERSIONES LTDA., Calle 15 No. 10-52, La Union, Valle, Colombia; NIT # 800154939-3 (Colombia) [SDNT]

8. DOXA S.A., Carrera 16 No. 13-31, La Union, Valle, Colombia; NIT # 821002801-0 (Colombia) [SDNT]

9. EAGLE COMMUNICATION BROKERS INC., Panama City, Panama [SDNT]

10. FAJARDO HERNANDEZ, Gloria Elena, c/o AGROPECUARIA EL NILO S.A., La Union, Valle, Colombia; c/o INDUSTRIAS DEL ESPIRITU SANTO S.A., Malambo, Atlantico, Colombia; c/o DOXA S.A., La Union, Valle, Colombia; c/o FUNDACION CENTRO DE INVESTIGACION HORTIFRUTICOLA DE COLOMBIA, La Union, Valle, Colombia; Cedula No. 29926353 (Colombia) (individual) [SDNT]

11. FUNDACION CENTRO DE INVESTIGACION HORTIFRUTICOLA DE COLOMBIA (a.k.a. CENIHF), Km. 2 La Victoria, La Union, Valle, Colombia; NIT # 821002640-1 (Colombia) [SDNT]

12. FUNDACION CENTRO FRUTICOLA ANDINO, Km. 2 Via La Victoria, La Union, Valle, Colombia; NIT # 800077756-2 (Colombia) [SDNT]

13. GBS TRADING S.A., Carrera 85 No. 15-110, Cali, Colombia; NIT # 805026824-5 (Colombia) [SDNT]

14. JAMCE INVESTMENTS LTD., Georgetown, Grand Cayman, Cayman Islands; C.R. No. 93989 (Cayman Islands) [SDNT]

15. JEHOVA LTDA., Calle 28 No. 27-18, Tulua, Valle, Colombia; NIT # 800112196-8 (Colombia) [SDNT]

16. KATTUS CORPORATION, Bridgetown, St. Michael, Barbados; Registration ID 67199901 (Barbados) [SDNT]

17. L.GR. E.U. (a.k.a. PLATERIA L.GR. E.U.), Calle 38N No. 6N-35, Loc. 46, Cali, Colombia; NIT # 805024405-3 (Colombia) [SDNT]

18. LEON, Hector, c/o MANUFACTURAS REAL S.A., Bogota, Colombia; DOB 29 Jan 1954; POB Viota, Cundinamarca, Colombia; Cedula No. 19251100 (Colombia); Passport P026720 (Colombia) (individual) [SDNT]

19. MANUFACTURAS REAL S.A. (f.k.a. MANUFACTURAS REAL LTDA.), Avenida 13 Sur No. 24C-73 Barrio Balvanera, Bogota, Colombia; NIT # 800158181-6 (Colombia) [SDNT]

20. MELON LTDA., Unicentro Casa Grajales, Cali, Colombia; NIT # 805000581-8 (Colombia) [SDNT]

21. MLA INVESTMENTS INC., Virgin Islands, British; C.R. No. IBC 525487 (Virgin Islands, British) [SDNT]

22. PLAZA REAL LTDA., Avenida 4 Oeste No. 6-103, Cali, Colombia; NIT # 890331686-1 (Colombia) [SDNT]

23. PRIETO SANTIAGO, Sandra Milena, c/o CRETA S.A., La Union, Valle, Colombia; c/o FRUTAS EXOTICAS COLOMBIANOS S.A., La Union, Valle, Colombia; c/o ASESORES CONSULTORES ASOCIADOS LTDA., Cali, Colombia; DOB 21 Jan 1970; POB Roldanillo, Valle, Colombia; Cedula No. 66702878 (Colombia); Passport AG784916 (Colombia) (individual) [SDNT]

24. SAIEH JASSIR, Abdala, c/o ALM INVESTMENT FLORIDA, INC., Miami, FL; c/o CONFECCIONES LORD S.A., Barranquilla, Atlantico, Colombia; c/o CONSTRUCTORA ALTAVISTA INTERNACIONAL S.A., Barranquilla, Colombia; c/o ELIZABETH OVERSEAS INC., Panama City, Panama; c/o GRANADA ASSOCIATES, INC., Miami, FL; c/o JAMCE INVESTMENTS LTD, Grand Cayman, Cayman Islands; c/o KAREN OVERSEAS FLORIDA, INC., Miami, FL; c/o KAREN OVERSEAS, INC., Panama City, Panama; c/o KATTUS CORPORATION, Barbados; c/o MLA INVESTMENTS INC., Virgin Islands, British; c/o URBANIZADORA ALTAVISTA INTERNACIONAL S.A., Barranquilla, Colombia; c/o VILLAROSA INVESTMENTS FLORIDA, INC., Miami, FL; c/o VILLAROSA INVESTMENTS CORPORATION, Panama City, Panama; Carrera 56 No. 19-40 Apt. 11, Barranquilla, Colombia; 19667 Turnberry Way A-G, North Miami Beach, FL; 780 NW Le Jeune Road, Suite 516, Miami, FL 33126; 780 NW 42nd Avenue, Suite 516, Miami, FL 33126; DOB 19 Dec 1919; citizen Colombia; Cedula No. 812202 (Colombia); Passport AF547128 (Colombia) (individual) [SDNT]

25. SANCHEZ CANDELO, Piedad Rocio, c/o CALI @ TELE.COM LTDA., Cali, Valle, Colombia; c/o COMUNICACIONES ABIERTAS CAMARY LTDA., Cali, Valle, Colombia; DOB 20 Nov 1952; POB Colombia; Cedula No. 31252839 (Colombia) (individual) [SDNT]

26. VILLAROSA INVESTMENTS CORPORATION, Panama City, Panama; C.R. No. 312563/48824/0058 (Panama) [SDNT]

27. WORLD WORKING COMERCIALIZADORA INTERNACIONAL S.A. (f.k.a. C.I. GLOS'S INTERNATIONAL S.A.; a.k.a. WORLD WORKING C.I.), Carrera 10 No. 31-01 Zona Industrial Los Mangos, Cali, Colombia; NIT # 805023286-9 (Colombia) [SDNT]

In addition, OFAC has made changes to the identifying information associated with the following eighteen persons previously designated pursuant to the Order:

1. BOHADA AVILA, Lubin, Calle 142A No. 106A-21 apt. 302, Bogota, Colombia Carrera 100 No. 11-90 of. 403, Cali, Colombia; c/o AGRONILO S.A., Toro, Valle, Colombia; c/o ARMAGEDON S.A., La Union, Valle, Colombia; c/o FRUTAS DE LA COSTA S.A., Malambo, Atlantico, Colombia; c/o GAD S.A., La Union, Valle, Colombia; c/o INDUSTRIAS DEL ESPIRITU SANTO S.A., Malambo, Atlantico, Colombia; c/o TARRITOS S.A., Cali, Colombia; Cedula No. 19093178 (Colombia); (INDIVIDUAL) [SDNT]

2. GRAJALES LEMOS, Raul Alberto, Carrera 15 No. 13-39, La Union, Valle, Colombia; Carrera 10 Norte No. 31-01, Cali, Colombia; c/o AGRONILO S.A., La Union, Valle, Colombia; c/o AGUSTIN GRAJALES Y CIA. LTDA., La Union, Valle, Colombia; c/o ALMACAES S.A., Bogota, Colombia; c/o ARMAGEDON S.A., La Union, Valle, Colombia; c/o C.A.D. S.A., Bogota, Colombia; c/o CASA GRAJALES S.A., La Union, Valle, Colombia; c/o CRETA S.A., La Union, Valle, Colombia; c/o FREXCO S.A., La Union, Valle, Colombia; c/o FRUTAS DE LA COSTA S.A., Malambo, Atlantico, Colombia; c/o GAD S.A., La Union, Valle, Colombia; c/o G.L.G. S.A., Bogota, Colombia; c/o GRAJALES S.A., La Union, Valle, Colombia; c/o HEBRON S.A., Tulua, Valle, Colombia; c/o HOTEL LOS VINEDOS, La Union, Valle, Colombia; c/o IBADAN LTDA., Tulua, Valle, Colombia; c/o ILOVIN S.A., Bogota, Colombia; c/o INDUSTRIAS DEL ESPIRITU SANTO S.A., Malambo, Atlantico, Colombia; c/o INTERNATIONAL FREEZE DRIED S.A., Bogota, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o JOSAFAT S.A., Tulua, Valle, Colombia; c/o MACEDONIA LTDA., La Union, Valle, Colombia; c/o PANAMERICANA LTDA., Cali, Colombia; c/o RAMAL S.A., Bogota, Colombia; c/o SALIM S.A., La Union, Valle, Colombia; c/o SALOME GRAJALES Y CIA. LTDA., Bogota, Colombia; c/o SOCIEDAD DE NEGOCIOS SAN AGUSTIN LTDA., La Union, Valle, Colombia; c/o TRANSPORTES DEL ESPIRITU SANTO S.A., La Union, Valle, Colombia; DOB 13 Dec 1957; POB La Union, Valle, Colombia; Cedula No. 6356044 (Colombia); (INDIVIDUAL) [SDNT]

3. GOMEZ QUINTERO, Carlos Alberto, Calle 14 No. 4-124, La Union, Valle, Colombia; Factoria La Rivera, La Union, Valle, Colombia; c/o CASA GRAJALES S.A., La Union, Valle, Colombia; c/o FREXCO S.A., La Union, Valle, Colombia; c/o GRAJALES S.A., La Union, Valle, Colombia; c/o INVERSIONES SANTA CECILIA S.C.S., La Union, Valle, Colombia; c/o INVERSIONES SANTA MONICA LTDA., La Union, Valle, Colombia; DOB 23 Jan 1957; POB Palmira, Valle, Colombia; Cedula No. 6355791 (Colombia); Passport AH411417 (Colombia); (INDIVIDUAL) [SDNT]

4. GRAJALES BERNAL, Sonia Patricia; c/o C.A.D. S.A., Bogota, Colombia; c/o G.L.G. S.A., Bogota, Colombia; c/o GRAJALES S.A., La Union, Valle, Colombia; c/o ILOVIN S.A., Bogota, Colombia; c/o JOSAFAT S.A., Tulua, Valle, Colombia; c/o MACEDONIA LTDA., La Union, Valle, Colombia; c/o SALIM S.A., La Union, Valle, Colombia; c/o SALOME GRAJALES Y CIA. LTDA., Bogota, Colombia; Cedula No. 29613767 (Colombia); (INDIVIDUAL) [SDNT]

5. GRAJALES LEMOS, Aida Salome, Calle 14 No. 13-03, La Union, Valle, Colombia; c/o AGRONILO S.A., Toro, Valle, Colombia; c/o ALMACAES S.A., Bogota, Colombia; c/o CRETA S.A., La Union, Valle, Colombia; c/o CASA GRAJALES S.A., La Union, Valle, Colombia; c/o FRUTAS DE LA COSTA S.A., Malambo, Atlantico, Colombia; c/o GAD S.A., La Union, Valle, Colombia; c/o GRAJALES S.A., La Union, Valle, Colombia; c/o HOTEL LOS VINEDOS, La Union, Valle, Colombia; c/o MACEDONIA LTDA., La Union, Valle, Colombia; c/o RAMAL S.A., Bogota, Colombia; c/o SALIM S.A., La Union, Valle, Colombia; c/o TARRITOS S.A., Cali, Colombia; DOB 13 Dec 1970; POB La Union, Valle, Colombia; Cedula No. 39789871 (Colombia); (INDIVIDUAL) [SDNT]

6. GRAJALES LEMOS, Juan Jacobo (a.k.a. GRAJALES LEMOS, Javier), c/o CRETA S.A., La Union, Valle, Colombia; c/o GRAJALES S.A., La Union, Valle, Colombia; c/o HOTEL LOS VINEDOS, La Union, Valle, Colombia; c/o SALIM S.A., La Union, Valle, Colombia; c/o TRANSPORTES DEL ESPIRITU SANTO S.A., La Union, Valle, Colombia; DOB 28 Oct 1972; POB La Union, Valle, Colombia; Cedula No. 94273951 (Colombia); (INDIVIDUAL) [SDNT]

7. GRAJALES LONDONO, Juan Raul, c/o HEBRON S.A., Tulua, Valle, Colombia; c/o INTERNATIONAL FREEZE DRIED S.A., Bogota, Colombia; c/o JOSAFAT S.A., Tulua, Valle, Colombia; c/o SALIM S.A., La Union, Valle, Colombia; DOB 10 Oct 1986; POB Bogota, Colombia; (INDIVIDUAL) [SDNT]

8. GRAJALES LONDONO, Lina Maria, c/o AGRONILO S.A., Toro, Valle, Colombia; c/o HEBRON S.A., Tulua, Valle, Colombia; c/o HOTEL LOS VINEDOS, La Union, Valle, Colombia; c/o JOSAFAT S.A., Tulua, Valle, Colombia; c/o SALIM S.A., La Union, Valle, Colombia; DOB 13 Mar 1979; POB Bogota, Colombia; Cedula No. 29567575 (Colombia); (INDIVIDUAL) [SDNT]

9. GRAJALES MEJIA, Jorge Julio; c/o AGUSTIN GRAJALES Y CIA. LTDA., La Union, Valle, Colombia; c/o FREXCO S.A., La Union, Valle, Colombia; c/o GRAJALES S.A., La Union, Valle, Colombia; c/o INVERSIONES GRAME LTDA., La Union, Valle, Colombia; c/o SOCIEDAD DE NEGOCIOS SAN AGUSTIN LTDA., La Union, Valle, Colombia; Cedula No. 14961290 (Colombia); (INDIVIDUAL) [SDNT]

10. GRAJALES POSSO, Maria Nancy, c/o CASA GRAJALES S.A., La Union, Valle, Colombia; c/o FREXCO S.A., La Union, Valle, Colombia; c/o GRAJALES S.A., La Union, Valle, Colombia; c/o INVERSIONES LOS POSSO LTDA S.C.S., La Union, Valle, Colombia; Cedula No. 29613013 (Colombia); (INDIVIDUAL) [SDNT]

11. GRAJALES PUENTES, Diana Carolina, Transversal 13A No. 123-10 Int. 2 apt. 203, Bogota, Colombia; c/o AGRONILO S.A., Toro, Valle, Colombia; c/o FRUTAS DE LA COSTA S.A., Malambo, Atlantico, Colombia; c/o HEBRON S.A., Tulua, Valle, Colombia; c/o INDUSTRIAS DEL ESPIRITU SANTO S.A., Malambo, Atlantico, Colombia; c/o JOSAFAT S.A., Tulua, Valle, Colombia; c/o SALIM S.A., La Union, Valle, Colombia; DOB 15 Mar 1979; POB La Victoria, Valle, Colombia; Cedula No. 52455790 (Colombia); (INDIVDUAL) [SDNT]

12. LONDONO ALVAREZ, Gloria Elena (a.k.a. LONDONO DE GRAJALES, Gloria Elena); c/o ARMAGEDON S.A., La Union, Valle, Colombia; c/o CRETA S.A., La Union, Valle, Colombia; c/o FRUTAS DE LA COSTA S.A., Malambo, Atlantico, Colombia; c/o GAD S.A., La Union, Valle, Colombia; c/o HEBRON S.A., Tulua, Valle, Colombia; c/o HOTEL LOS VINEDOS, La Union, Valle, Colombia; c/o INDUSTRIAS DEL ESPIRITU SANTO S.A., Malambo, Atlantico, Colombia; c/o INTERNATIONAL FREEZE DRIED S.A., Bogota, Colombia; c/o JOSAFAT S.A., Tulua, Valle, Colombia; c/o SALIM S.A., La Union, Valle, Colombia; c/o TRANSPORTES DEL ESPIRITU SANTO S.A., La Union, Valle, Colombia; DOB 22 Apr 1962; POB Medellin, Colombia; Cedula No. 51635146 (Colombia); (INDIVIDUAL) [SDNT]

13. MARIN TOBON, Bernardo Antonio, Calle 14 No. 18-62, La Union, Valle, Colombia; Calle 14 No. 18-64, La Union, Valle, Colombia; Carrera 16 No. 13-29 Piso 2, La Union, Valle, Colombia; Carrera 16 No. 13-31, La Union, Valle, Colombia; c/o ALMACAES S.A., Bogota, Colombia; c/o GRAJALES S.A., La Union, Valle, Colombia; c/o HOTEL LOS VINEDOS, La Union, Valle, Colombia; c/o ILOVIN S.A., Bogota, Colombia; c/o TRANSPORTES DEL ESPIRITU SANTO S.A., La Union, Valle, Colombia; DOB 18 Jan 1954; POB La Union, Valle, Colombia; Cedula No. 6355508 (Colombia); (INDIVIDUAL) [SDNT]

14. OSORIO AVILA, Orlando, Calle 14 No. 16-54, La Union, Valle, Colombia; c/o CASA GRAJALES S.A., La Union, Valle, Colombia; c/o FREXCO S.A., La Union, Valle, Colombia; c/o GAD S.A., La Union, Valle, Colombia; c/o GRAJALES S.A., La Union, Valle, Colombia; c/o HOTEL LOS VINEDOS, La Union, Valle, Colombia; c/o INDUSTRIAS DEL ESPIRITU SANTO S.A., Malambo, Atlantico, Colombia; c/o INVERSIONES SANTA CECILIA S.C.S., La Union, Valle, Colombia; c/o TRANSPORTES DEL ESPIRITU SANTO S.A., La Union, Valle, Colombia; Cedula No. 6355939 (Colombia); (INDIVIDUAL) [SDNT]

15. POSSO, Maria Esperanza, c/o FRUTAS DE LA COSTA S.A., Malambo, Atlantico, Colombia; c/o HOTEL LOS VINEDOS, La Union, Valle, Colombia; c/o INDUSTRIAS DEL ESPIRITU SANTO S.A., Malambo, Atlantico, Colombia; c/o TRANSPORTES DEL ESPIRITU SANTO S.A., La Union, Valle, Colombia; Cedula No. 29613348 (Colombia); (INDIVIDUAL) [SDNT]

16. RICARDO DIAZ, Alfonso, Calle 15 No. 10-52, La Union, Valle, Colombia; c/o CASA GRAJALES S.A., La Union, Valle, Colombia; c/o CRETA S.A., La Union, Valle, Colombia; c/o FREXCO S.A., La Union, Valle, Colombia; c/o HEBRON S.A., Tulua, Valle, Colombia; Cedula No. 14950952 (Colombia); (INDIVIDUAL) [SDNT]

17. SAIEH JAMIS, Carlos Ernesto, c/o ALMACAES S.A., Bogota, Colombia; c/o ALM INVESTMENT FLORIDA, INC., Miami, FL, United States; c/o BLACKMORE INVESTMENTS A.V.V., Oranjestad, Aruba; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MARC LLC, Miami, FL, United States; c/o MOISES SAIEH Y CIA. S.C.A., Barranquilla, Colombia; c/o RAMAL S.A., Bogota, Colombia; c/o RIXFORD INVESTMENT CORPORATION, Panama City, Panama; c/o URBANIZADORA ALTAVISTA INTERNACIONAL S.A., Barranquilla, Colombia; c/o VILLAROSA INVESTMENTS FLORIDA, INC., Miami, FL, United States; 9100 South Dadeland Boulevard, Suite 912, Miami, FL 33156; 780 NW Le Jeune Rd, Ste 516, Miami, FL 33126, United States; 780 NW 42nd Avenue, Miami, FL 33126, United States; Carrera 56 # 79-102 P-10, Barranquilla, Colombia; Nine Island Avenue, Unit 1411, Miami Beach, FL, United States; DOB 24 Feb 1964; POB Barranquilla, Colombia; Citizen Colombia; Nationality Colombia; Cedula No. 8739066 (Colombia); Passport AH006864 (Colombia); (INDIVIDUAL) [SDNT]

18. SAIEH MUVDI, Moises Abdal, c/o ALMACAES S.A., Bogota, Colombia; c/o ALM INVESTMENT FLORIDA, INC., Miami, FL, United States; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MOISES SAIEH Y CIA. S.C.A., Barranquilla, Colombia; c/o RAMAL S.A., Bogota, Colombia; c/o RIXFORD INVESTMENT CORPORATION, Panama City, Panama; c/o SUNSET & 97TH HOLDINGS, LLC., Miami, FL, United States; c/o URBANIZADORA ALTAVISTA INTERNACIONAL S.A., Barranquilla, Colombia; c/o VILLAROSA INVESTMENTS FLORIDA, INC., Miami, FL, United States; 9100 South Dadeland Boulevard, Suite 912, Miami, FL 33156; Carrera 56 # 79-40, Apt 7, Barranquilla, Colombia; 19667 NE 36 Court A 12-G, North Miami Beach, FL, United States; 780 NW Le Jeune Rd, Ste 516, Miami, FL 33126, United States; 780 NW 42nd Avenue, Miami, FL 33126, United States; 1405 SW 107th Ave, Ste 301B, Miami, FL, United States; 19667 Turnberry Way, Unit 12G, Miami, FL 33180, United States; 20301 W Country Club Drive, Apt 824, Aventura, FL 33180, United States; DOB 06 Jun 1945; POB Pamplona, Norte de Santander; Citizen Colombia; Cedula No. 7427466 (Colombia); (INDIVIDUAL) [SDNT]

These eighteen persons previously designated pursuant to the Order now appear as the following:

Dated: November 28, 2006.

1. BOHADA AVILA, Lubin, Calle 142A No. 106A-21 apt. 302, Bogota, Colombia Carrera 100 No. 11-90 of. 403, Cali, Colombia; c/o AGRONILO S.A., Toro, Valle, Colombia; c/o ARMAGEDON S.A., La Union, Valle, Colombia; c/o ASESORES CONSULTORES ASOCIADOS LTDA., Cali, Colombia ; c/o CONSTRUCCIONES E INVERSIONES LTDA., La Union, Valle, Colombia; c/o FRUTAS DE LA COSTA S.A., Malambo, Atlantico, Colombia; c/o FUNDACION CENTRO FRUTICOLA ANDINO, La Union, Valle, Colombia; c/o GAD S.A., La Union, Valle, Colombia; c/o INDUSTRIAS DEL ESPIRITU SANTO S.A., Malambo, Atlantico, Colombia; c/o TARRITOS S.A., Cali, Colombia; c/o WORLD WORKING COMERCIALIZADORA INTERNACIONAL S.A. Cali, Valle, Colombia; Cedula No. 19093178 (Colombia); (INDIVIDUAL) [SDNT]

2. GRAJALES LEMOS, Raul Alberto, Carrera 15 No. 13-39, La Union, Valle, Colombia; Carrera 10 Norte No. 31-01, Cali, Colombia; c/o AGRONILO S.A., La Union, Valle, Colombia; c/o AGUSTIN GRAJALES Y CIA. LTDA., La Union, Valle, Colombia; c/o ALMACAES S.A., Bogota, Colombia; c/o ARMAGEDON S.A., La Union, Valle, Colombia; c/o C.A.D. S.A., Bogota, Colombia; c/o CASA GRAJALES S.A., La Union, Valle, Colombia; c/o CONFECCIONES LINA MARIA LTDA., La Union, Valle, Colombia; c/o CRETA S.A., La Union, Valle, Colombia; c/o FREXCO S.A., La Union, Valle, Colombia; c/o FRUTAS DE LA COSTA S.A., Malambo, Atlantico, Colombia; c/o FUNDACION CENTRO FRUTICOLA ANDINO, La Union, Valle, Colombia; c/o FUNDACION CENTRO DE INVESTIGACION HORTIFRUTICOLA DE COLOMBIA, La Union, Valle, Colombia; c/o GAD S.A., La Union, Valle, Colombia; c/o G.L.G. S.A., Bogota, Colombia; c/o GRAJALES S.A., La Union, Valle, Colombia; c/o HEBRON S.A., Tulua, Valle, Colombia; c/o HOTEL LOS VINEDOS, La Union, Valle, Colombia; c/o IBADAN LTDA., Tulua, Valle, Colombia; c/o ILOVIN S.A., Bogota, Colombia; c/o INDUSTRIAS DEL ESPIRITU SANTO S.A., Malambo, Atlantico, Colombia; c/o INTERNATIONAL FREEZE DRIED S.A., Bogota, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o JOSAFAT S.A., Tulua, Valle, Colombia; c/o MACEDONIA LTDA., La Union, Valle, Colombia; c/o PANAMERICANA LTDA., Cali, Colombia; c/o RAMAL S.A., Bogota, Colombia; c/o SALIM S.A., La Union, Valle, Colombia; c/o SALOME GRAJALES Y CIA. LTDA., Bogota, Colombia; c/o SOCIEDAD DE NEGOCIOS SAN AGUSTIN LTDA., La Union, Valle, Colombia; c/o TRANSPORTES DEL ESPIRITU SANTO S.A., La Union, Valle, Colombia; DOB 13 Dec 1957; POB La Union, Valle, Colombia; Cedula No. 6356044 (Colombia); (INDIVIDUAL) [SDNT]

3. GOMEZ QUINTERO, Carlos Alberto, Calle 14 No. 4-124, La Union, Valle, Colombia; Factoria La Rivera, La Union, Valle, Colombia; c/o CASA GRAJALES S.A., La Union, Valle, Colombia; c/o CONSTRUCCIONES E INVERSIONES LTDA., La Union, Valle, Colombia; c/o FREXCO S.A., La Union, Valle, Colombia; c/o FUNDACION CENTRO FRUTICOLA ANDINO, La Union, Valle, Colombia; c/o GRAJALES S.A., La Union, Valle, Colombia; c/o INVERSIONES SANTA CECILIA S.C.S., La Union, Valle, Colombia; c/o INVERSIONES SANTA MONICA LTDA., La Union, Valle, Colombia; DOB 23 Jan 1957; POB Palmira, Valle, Colombia; Cedula No. 6355791 (Colombia); Passport AH411417 (Colombia); (INDIVIDUAL) [SDNT]

4. GRAJALES BERNAL, Sonia Patricia; c/o ASESORES CONSULTORES ASOCIADOS LTDA., Cali, Colombia; c/o C.A.D. S.A., Bogota, Colombia; c/o CALI@TELE.COM LTDA., Cali, Colombia; c/o COMUNICACIONES ABIERTAS CAMARY LTDA., Cali, Colombia; c/o FUNDACION CENTRO FRUTICOLA ANDINO, La Union, Valle, Colombia; c/o G.L.G. S.A., Bogota, Colombia; c/o GRAJALES S.A., La Union, Valle, Colombia; c/o ILOVIN S.A., Bogota, Colombia; c/o JEHOVA LTDA., Tulua, Valle, Colombia; c/o JOSAFAT S.A., Tulua, Valle, Colombia; c/o MACEDONIA LTDA., La Union, Valle, Colombia; c/o SALIM S.A., La Union, Valle, Colombia; c/o SALOME GRAJALES Y CIA. LTDA., Bogota, Colombia; Cedula No. 29613767 (Colombia); (INDIVIDUAL) [SDNT]

5. GRAJALES LEMOS, Aida Salome, Calle 14 No. 13-03, La Union, Valle, Colombia; c/o AGRONILO S.A., Toro, Valle, Colombia; c/o ALMACAES S.A., Bogota, Colombia; c/o CRETA S.A., La Union, Valle, Colombia; c/o CASA GRAJALES S.A., La Union, Valle, Colombia; c/o FRUTAS DE LA COSTA S.A., Malambo, Atlantico, Colombia; c/o FUNDACION CENTRO DE INVESTIGACION HORTIFRUTICOLA DE COLOMBIA, La Union, Valle, Colombia; c/o GAD S.A., La Union, Valle, Colombia; c/o GRAJALES S.A., La Union, Valle, Colombia; c/o HOTEL LOS VINEDOS, La Union, Valle, Colombia; c/o JEHOVA LTDA., Tulua, Valle, Colombia; c/o MACEDONIA LTDA., La Union, Valle, Colombia; c/o RAMAL S.A., Bogota, Colombia; c/o SALIM S.A., La Union, Valle, Colombia; c/o TARRITOS S.A., Cali, Colombia; DOB 13 Dec 1970; POB La Union, Valle, Colombia; Cedula No. 39789871 (Colombia); (INDIVIDUAL) [SDNT]

6. GRAJALES LEMOS, Juan Jacobo (a.k.a. GRAJALES LEMOS, Javier), c/o CRETA S.A., La Union, Valle, Colombia; c/o FUNDACION CENTRO FRUTICOLA ANDINO, La Union, Valle, Colombia; c/o GRAJALES S.A., La Union, Valle, Colombia; c/o HOTEL LOS VINEDOS, La Union, Valle, Colombia; c/o JEHOVA LTDA., Tulua, Valle, Colombia; c/o SALIM S.A., La Union, Valle, Colombia; c/o TRANSPORTES DEL ESPIRITU SANTO S.A., La Union, Valle, Colombia; DOB 28 Oct 1972; POB La Union, Valle, Colombia; Cedula No. 94273951 (Colombia); (INDIVIDUAL) [SDNT]

7. GRAJALES LONDONO, Juan Raul, c/o CALI@TELE.COM LTDA., Cali, Colombia; c/o CITICAR LTDA., La Union, Valle, Colombia; c/o COMUNICACIONES ABIERTAS CAMARY LTDA., Cali, Colombia; c/o CONFECCIONES LINA MARIA LTDA., La Union, Valle, Colombia; c/o DOXA S.A., La Union, Valle, Colombia; c/o HEBRON S.A., Tulua, Valle, Colombia; c/o INTERNATIONAL FREEZE DRIED S.A., Bogota, Colombia; c/o JOSAFAT S.A., Tulua, Valle, Colombia; c/o SALIM S.A., La Union, Valle, Colombia; DOB 10 Oct 1986; POB Bogota, Colombia; Cedula No. 11167762 (Colombia); (INDIVIDUAL) [SDNT]

8. GRAJALES LONDONO, Lina Maria, c/o AGRONILO S.A., Toro, Valle, Colombia; c/o CITICAR LTDA., La Union, Valle, Colombia; c/o CONFECCIONES LINA MARIA LTDA., La Union, Valle, Colombia; c/o DOXA S.A., La Union, Valle, Colombia; c/o GBS TRADING S.A., Cali, Colombia; c/o HEBRON S.A., Tulua, Valle, Colombia; c/o HOTEL LOS VINEDOS, La Union, Valle, Colombia; c/o JOSAFAT S.A., Tulua, Valle, Colombia; c/o L.G.R. E.U., Cali, Colombia; c/o SALIM S.A., La Union, Valle, Colombia; DOB 13 Mar 1979; POB Bogota, Colombia; Cedula No. 29567575 (Colombia); (INDIVIDUAL) [SDNT]

9. GRAJALES MEJIA, Jorge Julio; c/o AGUSTIN GRAJALES Y CIA. LTDA., La Union, Valle, Colombia; c/o FREXCO S.A., La Union, Valle, Colombia; c/o FUNDACION CENTRO FRUTICOLA ANDINO, La Union, Valle, Colombia; c/o FUNDACION CENTRO DE INVESTIGACION HORTIFRUTICOLA DE COLOMBIA, La Union, Valle, Colombia; c/o GRAJALES S.A., La Union, Valle, Colombia; c/o INVERSIONES GRAME LTDA., La Union, Valle, Colombia; c/o SOCIEDAD DE NEGOCIOS SAN AGUSTIN LTDA., La Union, Valle, Colombia; Cedula No. 14961290 (Colombia); (INDIVIDUAL) [SDNT]

10. GRAJALES POSSO, Maria Nancy, c/o CASA GRAJALES S.A., La Union, Valle, Colombia; c/o FREXCO S.A., La Union, Valle, Colombia; c/o GRAJALES S.A., La Union, Valle, Colombia; c/o INVERSIONES LOS POSSO LTDA S.C.S., La Union, Valle, Colombia; c/o PLAZA REAL LTDA., Cali, Colombia; Cedula No. 29613013 (Colombia); (INDIVIDUAL) [SDNT]

11. GRAJALES PUENTES, Diana Carolina, Transversal 13A No. 123-10 Int. 2 apt. 203, Bogota, Colombia; c/o AGRONILO S.A., Toro, Valle, Colombia; c/o CITICAR LTDA., La Union, Valle, Colombia; c/o DOXA S.A., La Union, Valle, Colombia; c/o FRUTAS DE LA COSTA S.A., Malambo, Atlantico, Colombia; c/o HEBRON S.A., Tulua, Valle, Colombia; c/o INDUSTRIAS DEL ESPIRITU SANTO S.A., Malambo, Atlantico, Colombia; c/o JOSAFAT S.A., Tulua, Valle, Colombia; c/o SALIM S.A., La Union, Valle, Colombia; DOB 15 Mar 1979; POB La Victoria, Valle, Colombia; Cedula No. 52455790 (Colombia); (INDIVDUAL) [SDNT]

12. LONDONO ALVAREZ, Gloria Elena (a.k.a. LONDONO DE GRAJALES, Gloria Elena); c/o ARMAGEDON S.A., La Union, Valle, Colombia; c/o CITICAR LTDA., La Union, Valle, Colombia; c/o CONFECCIONES LINA MARIA LTDA., La Union, Valle, Colombia; c/o CRETA S.A., La Union, Valle, Colombia; c/o FRUTAS DE LA COSTA S.A., Malambo, Atlantico, Colombia; c/o GAD S.A., La Union, Valle, Colombia; c/o GBS TRADING S.A., Cali, Colombia; c/o HEBRON S.A., Tulua, Valle, Colombia; c/o HOTEL LOS VINEDOS, La Union, Valle, Colombia; c/o INDUSTRIAS DEL ESPIRITU SANTO S.A., Malambo, Atlantico, Colombia; c/o INTERNATIONAL FREEZE DRIED S.A., Bogota, Colombia; c/o JOSAFAT S.A., Tulua, Valle, Colombia; c/o MELON LTDA., Cali, Colombia; c/o SALIM S.A., La Union, Valle, Colombia; c/o TRANSPORTES DEL ESPIRITU SANTO S.A., La Union, Valle, Colombia; c/o WORLD WORKING COMERCIALIZADORA INTERNACIONAL S.A., Cali, Colombia; DOB 22 Apr 1962; POB Medellin, Colombia; Cedula No. 51635146 (Colombia); (INDIVIDUAL) [SDNT]

13. MARIN TOBON, Bernardo Antonio, Calle 14 No. 18-62, La Union, Valle, Colombia; Calle 14 No. 18-64, La Union, Valle, Colombia; Carrera 16 No. 13-29 Piso 2, La Union, Valle, Colombia; Carrera 16 No. 13-31, La Union, Valle, Colombia; c/o ALMACAES S.A., Bogota, Colombia; c/o DOXA S.A., La Union, Valle, Colombia; c/o FUNDACION CENTRO DE INVESTIGACION HORTIFRUTICOLA DE COLOMBIA, La Union, Valle, Colombia; c/o GRAJALES S.A., La Union, Valle, Colombia; c/o HOTEL LOS VINEDOS, La Union, Valle, Colombia; c/o ILOVIN S.A., Bogota, Colombia; c/o MANUFACTURAS REAL S.A., Bogota, Colombia; c/o TRANSPORTES DEL ESPIRITU SANTO S.A., La Union, Valle, Colombia; DOB 18 Jan 1954; POB La Union, Valle, Colombia; Cedula No. 6355508 (Colombia); (INDIVIDUAL) [SDNT]

14. OSORIO AVILA, Orlando, Calle 14 No. 16-54, La Union, Valle, Colombia; c/o CASA GRAJALES S.A., La Union, Valle, Colombia; c/o EAGLE COMMUNICATION BROKERS INC., Panama City, Panama; c/o FREXCO S.A., La Union, Valle, Colombia; c/o FUNDACION CENTRO FRUTICOLA ANDINO, La Union, Valle, Colombia; c/o FUNDACION CENTRO DE INVESTIGACION HORTIFRUTICOLA DE COLOMBIA, La Union, Valle, Colombia; c/o GAD S.A., La Union, Valle, Colombia; c/o GRAJALES S.A., La Union, Valle, Colombia; c/o HOTEL LOS VINEDOS, La Union, Valle, Colombia; c/o INDUSTRIAS DEL ESPIRITU SANTO S.A., Malambo, Atlantico, Colombia; c/o INVERSIONES SANTA CECILIA S.C.S., La Union, Valle, Colombia; c/o TRANSPORTES DEL ESPIRITU SANTO S.A., La Union, Valle, Colombia; Cedula No. 6355939 (Colombia); (INDIVIDUAL) [SDNT]

15. POSSO, Maria Esperanza, c/o CONSTRUCCIONES E INVERSIONES LTDA., La Union, Valle, Colombia; c/o DOXA S.A., La Union, Valle, Colombia; c/o FRUTAS DE LA COSTA S.A., Malambo, Atlantico, Colombia; c/o HOTEL LOS VINEDOS, La Union, Valle, Colombia; c/o INDUSTRIAS DEL ESPIRITU SANTO S.A., Malambo, Atlantico, Colombia; c/o TRANSPORTES DEL ESPIRITU SANTO S.A., La Union, Valle, Colombia; Cedula No. 29613348 (Colombia); (INDIVIDUAL) [SDNT]

16. RICARDO DIAZ, Alfonso, Calle 15 No. 10-52, La Union, Valle, Colombia; c/o CASA GRAJALES S.A., La Union, Valle, Colombia; c/o CRETA S.A., La Union, Valle, Colombia; c/o FREXCO S.A., La Union, Valle, Colombia; c/o FUNDACION CENTRO FRUTICOLA ANDINO, La Union, Valle, Colombia; c/o HEBRON S.A., Tulua, Valle, Colombia; c/o WORLD WORKING COMERCIALIZADORA INTERNACIONAL S.A., Cali, Colombia; Cedula No. 14950952 (Colombia); (INDIVIDUAL) [SDNT]

17. SAIEH JAMIS, Carlos Ernesto, c/o ALMACAES S.A., Bogota, Colombia; c/o ALM INVESTMENT FLORIDA, INC., Miami, FL, United States; c/o BLACKMORE INVESTMENTS A.V.V., Oranjestad, Aruba; c/o BRUNELLO LTD., Grand Cayman, Cayman Islands; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MARC LLC, Miami, FL, United States; c/o MLA INVESTMENTS, INC., Virgin Islands, British; c/o MOISES SAIEH Y CIA. S.C.A., Barranquilla, Colombia; c/o RAMAL S.A., Bogota, Colombia; c/o RIXFORD INVESTMENT CORPORATION, Panama City, Panama; c/o URBANIZADORA ALTAVISTA INTERNACIONAL S.A., Barranquilla, Colombia; c/o VILLAROSA INVESTMENTS FLORIDA, INC., Miami, FL, United States; 9100 South Dadeland Boulevard, Suite 912, Miami, FL 33156; 780 NW Le Jeune Rd, Ste 516, Miami, FL 33126, United States; 780 NW 42nd Avenue, Miami, FL 33126, United States; Carrera 56 # 79-102 P-10, Barranquilla, Colombia; Nine Island Avenue, Unit 1411, Miami Beach, FL, United States; DOB 24 Feb 1964; POB Barranquilla, Colombia; Citizen Colombia; Nationality Colombia; Cedula No. 8739066 (Colombia); Passport AH006864 (Colombia); (INDIVIDUAL) [SDNT]

18. SAIEH MUVDI, Moises Abdal, c/o ALMACAES S.A., Bogota, Colombia; c/o ALM INVESTMENT FLORIDA, INC., Miami, FL, United States; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o JAMCE INVESTMENTS LTD, Grand Cayman, Cayman Islands; c/o KAREN OVERSEAS FLORIDA, INC., Miami, FL, United States; c/o KATTUS CORPORATION, Barbados; c/o KATTUS II CORPORATION, Panama City, Panama; c/o MLA INVESTMENTS, INC., British, Virgin Islands; c/o MOISES SAIEH Y CIA. S.C.A., Barranquilla, Colombia; c/o RAMAL S.A., Bogota, Colombia; c/o RIXFORD INVESTMENT CORPORATION, Panama City, Panama; c/o SUNSET & 97TH HOLDINGS, LLC., Miami, FL, United States; c/o URBANIZADORA ALTAVISTA INTERNACIONAL S.A., Barranquilla, Colombia; c/o VILLAROSA INVESTMENTS CORPORATION, Panama City, Panama; c/o VILLAROSA INVESTMENTS FLORIDA, INC., Miami, FL, United States; 9100 South Dadeland Boulevard, Suite 912, Miami, FL 33156; Carrera 56 # 79-40, Apt 7, Barranquilla, Colombia; 19667 NE 36 Court A 12-G, North Miami Beach, FL, United States; 780 NW Le Jeune Rd, Ste 516, Miami, FL 33126, United States; 780 NW 42nd Avenue, Miami, FL 33126, United States; 1405 SW 107th Ave, Ste 301B, Miami, FL, United States; 19667 Turnberry Way, Unit 12G, Miami, FL 33180, United States; 20301 W Country Club Drive, Apt 824, Aventura, FL 33180, United States; DOB 06 Jun 1945; POB Pamplona, Norte de Santander; Citizen Colombia; Cedula No. 7427466 (Colombia); (INDIVIDUAL) [SDNT]

Adam J. Szubin,
Director, Office of Foreign Assets Control.

[FR Doc. E6-20375 Filed 11-30-06; 8:45 am]

BILLING CODE 4811-42-P